DEPARTMENT OF LABOR

Employment and Training Administration

[TA-W-40,717A]

Dystar LP, Corporate Office, Charlotte, NC; Amended Certification Regarding Eligibility To Apply for Worker Adjustment Assistance

In accordance with section 223 of the Trade Act of 1974 (19 U.S.C. 2273) the Department of Labor issued an Amended Certification of Eligibility to Apply for Worker Adjustment Assistance on December 12, 2003, applicable to workers of DyStar LP, Corporate Office, Charlotte, North Carolina. The notice was published in the Federal Register on January 26, 2004 (69 FR 3604).

At the request of the State agency, the Department reviewed the certification for workers of the subject firm. The workers provide administrative support services for the production of textile reactive dyes produced by DyStar LP.

New findings show that a DyStar LP certification for worker adjustment assistance (TA-W-39,329) was amended on January 15, 2002, to include the workers of DyStar LP, Corporate Office, Charlotte, North Carolina (TA-W-39,329A), who provided administrative support services for the production of textile reactive dyes. The notice of the amended certification was published in the Federal Register on February 5, 2002 (67 FR 5295). That amended certification expired on December 7, 2003.

To avoid an overlap in worker group coverage, the amended certification for TA-W-40,717A is again being amended to change the impact date from January 9, 2001, to December 8, 2003.

The amended notice applicable to TA-W-40,717A is hereby issued as follows:

All workers of DyStar LP, Corporate Office, Charlotte, North Carolina, who became totally or partially separated from employment on or after December 8, 2003, through May 6, 2004, are eligible to apply for adjustment assistance under section 223 of the Trade Act of 1974.

Signed in Washington, DC, this 5th day of May, 2004.
Linda G. Poole,
Certifying Officer, Division of Trade Adjustment Assistance.

[FR Doc. 04-11628 Filed 5-21-04; 8:45 am]

BILLING CODE 4510-30-P